DEPARTMENT OF AGRICULTURE

Forest Service

Cibola National Forest Invasive Plant Management Project

AGENCY: Forest Service, USDA.

ACTION: Notice of Intent to Prepare An Environmental Impact Statement.

SUMMARY: The Department of Agriculture, Forest Service will prepare an environmental impact statement for a proposal to manage invasive plant species on the Cibola National Forest and the Kiowa, Rita Blanca, Black Kettle and McClellan Creek National Grasslands. Counties included in the analysis area are Socorro, Sierra, Catron, Lincoln, Torrance, Bernalillo, Valencia, Cibola, Sandoval, McKinley, Colfax, Union, Mora and Harding in New Mexico; Dallam, Gray and Hemphill Counties in Texas; and Cimarron and Roger Mills Counties in Oklahoma.

DATES: Comments must be received, in writing, on or before May 31, 2002.

ADDRESSES: Submit written comments to Range and Wildlife Staff, Forest Supervisor's Office, Cibola National Forest, 2113 Osuna Rd., NE, Suite A, Albuquerque, NM 87113-1001, Attn: Range, Wildlife and Watershed Staff. For further information, mail correspondence to: Range and Wildlife Staff, Cibola National Forest Supervisor's Office, 2113 Osuna Rd., NE, Suite A, Albuquerque, NM 87113-1001, phone (505) 346-3900.

SUPPLEMENTARY INFORMATION:

Purpose and Need for Action

The purpose and need for the Proposed Action of managing invasive plant infestations on the Cibola National Forest and Kiowa, Rita Blanca, Black Kettle and McClellan Creek National Grasslands is to:

• Protect forests, rangelands, grasslands, wildlands and adjacent private, industrial and other agency lands by eradicating invasive plant species where possible and by limiting the spread of well established invasive plant species when eradication is not realistically possible given time and funding constraints;

• Comply with federal, state and county noxious week laws regarding the management of noxious weed species.

Proposed Action

The project proposes to take an integrated pest management (IPM) approach to management of invasive plant species. This approach will combine biological, cultural, mechanical and chemical methods as well as incorporating prevention and education measures. These methods are further defined below:

• Biological control methods involve the release of insects or plant pathogens that impact invasive plant species through reduction of seed production, reduction of plant vigor, or other avenue that reduces the ability of invasive plants to dominate native plant communities. Biological control agents typically come from the area of origin of the pest plant host, which is usually overseas. These agents have been proven to be benign to native plants and crop species. They are generally not effective in elimination of invasive plants, and usually require large infestations to become established.

• Cultural control methods include planting, fertilizing or generally encouraging desired vegetation to limit sites available for encroachment by invasive species.

• Mechanical control methods involve hand pulling or digging individual plants, picking off and destroying flower and seed heads

• Chemical control methods involve the use of herbicides to kill invasive species while maintaining as much desirable vegetation as possible.

Possible Alternatives

Possible alternatives to the proposed action include taking no action against invasive plant species and using only non-chemical control methods.

Responsible Official

The responsible official is Liz Agpaoa, the Cibola National Forest Supervisor. The address is Cibola National Forest Supervisor's Office, 2113 Osuna Rd., NE, Suite A, Albuquerque, NM 87113-1001.

Nature of Decisions To Be Made

The decisions to be made are: (1) Whether to manage invasive plant species and if so, whether to use one or a combination of several methods of control, including mechanical, chemical, biological or cultural treatments and if so, where and how much? (2) A range of alternatives will be considered. These include taking no action against invasive plant species, using only non-chemical control methods, and using a combination of control methods in an integrated pest management strategy.

Scoping Process

Public participation will be important at several times during the analysis. The first time is during the scoping period [Reviewer may wish to refer to the Council on Environmental Quality Regulations for implementing the procedural provisions of the National Environment Policy Act (CFR) at 40 CFR 1501.7]. The Agency will be seeking written issues with the Proposed Action from Federal, State, and local agencies, any affected Indian tribes, and other individuals who may be interested in or affected by the Proposed Action. The U.S. Fish and Wildlife Service, Department of the Interior, will be invited to participate as a cooperating agency to evaluate potential impacts to threatened and endangered species habitat if any such species are found to exist in the potential treatment areas. This input will be used to develop additional alternatives. The scoping process includes:

• Identifying potential issues;

• Selecting significant issues with the Proposed Action, needing in-depth analysis;

• Eliminating insignificant issues; issues that have been analyzed and documented in a previous EIS, issues that controvert the need for the Proposed Action, or issues that are outside the authority of the Responsible Official to decide;

• Exploration of additional alternatives based on the issues identified during the scoping process; and

• Identification of potential environmental effects of the proposed action and alternatives (i.e., direct, indirect, and cumulative effects and connected actions).

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: April 29, 2002.
Liz Agpaoa,
Forest Supervisor, Cibola National Forest.

[FR Doc. 02-10981 Filed 5-2-02; 8:45 am]

BILLING CODE 3410-11-M